GENERAL SERVICES ADMINISTRATION/DEPARTMENT OF STATE

Office of Communications; Cancellation of an Optional Form

AGENCY: General Services Administration.

ACTION: Notice.

SUMMARY: The Department of State is cancelling the following Optional Form because of low usage:

OF 298, Interagency Foreign Service National Employee Position Description.

DATES: Effective January 16, 2001.

FOR FURTHER INFORMATION CONTACT: Ms. Barbara Williams, General Services Administration, (202) 501-0581.

Dated: January 3, 2001.
Barbara M. Williams,
Deputy Standard and Optional Forms Management Officer.

[FR Doc. 01-1210 Filed 1-12-01; 8:45 am]

BILLING CODE 6820-34-M